DEPARTMENT OF AGRICULTURE

Agricultural Marketing Service

[Docket Number FV-05-305]

United States Standards for Grades of Globe Artichokes

AGENCY: Agricultural Marketing Service, USDA.

ACTION: Notice.

SUMMARY: The Agricultural Marketing Service (AMS) of the Department of Agriculture (USDA) is soliciting comments on its proposal to revise the United States Standards for Grades of Globe Artichokes. AMS is proposing to include a U.S. No. 1 Long Stem grade along with an undersize tolerance of 5 percent in the standards. The new grade will have the same requirements as the U.S. No. 1 except that the stems must be smoothly cut to a minimum length of at least 8 inches, unless specified to a longer length in connection with the grade. AMS is proposing to further define “fairly compact” to include a definition for “slightly spread” to mean, “the outer scales may be slightly open, but the inner scales at the tip of the artichoke must be closely folded into the bud.” The proposed revisions would bring the standards for globe artichokes in line with current marketing practices, thereby improving their usefulness in serving the industry.

DATES: Comments must be received by November 14, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Globe Artichokes is available either at the above address or by accessing the Fresh Products Branch Web site at: http://www.ams.usda.gov/standards/stanfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary United States Standards for Grades of Globe Artichokes using procedures that appear in Part 36, Title 7 of the Code of Federal Regulations (7 CFR part 36). These standards were last revised in 1969.

Background

Prior to undertaking research and other work associated with revision of the grade standards, AMS published a notice in the Federal Register (70 FR 21391) on April 26, 2005, soliciting comments on the possible revision to the United States Standards for Grades of Globe Artichokes.

In response to our request for comments, AMS received one comment from an industry group. The comment was a request to revise the current standards to allow the standards to be used for “long stem” globe artichokes in addition to the traditional “short stem” globe artichokes. AMS is proposing to include a U.S. No. 1 Long Stem grade along with an undersize tolerance of 5 percent in the standards. The new grade will have the same requirements as the U.S. No. 1 except that the stems must be smoothly cut to a minimum length of at least 8 inches unless specified to a longer length in connection with the grade. The Agency has been asked to revise the standards to further define “fairly compact” to include a definition for “slightly spread.” AMS is proposing “slightly spread” to mean, “the outer scales may be slightly open, but the inner scales at the tip of the artichoke must be closely folded into the bud.” The Agency has also been asked about the current guidelines for scoring “frosted artichokes.” The standards provide a definition for damage and serious damage based upon materially or seriously affecting the appearance, or the edible, or marketing quality of the globe artichoke. AMS believes that the current definitions for damage and serious damage within the scoring guide are sufficient for determining the extent of frost injury to the globe artichoke.

This proposal will bring the standards for globe artichokes in line with current marketing practices, thereby improving their usefulness in serving the industry.

The official grade of a lot of globe artichokes covered by these standards is determined by the procedures set forth in the Regulations Governing Inspection, Certification, and Standards of Fresh Fruits, Vegetables and Other Products (7 CFR 51.1 to 51.61).

This notice provides for a 60-day comment period for interested parties to comment on changes to the standard.

Authority: 7 U.S.C. 1621-1627.

Dated: September 6, 2005.
Lloyd C. Day,
Administrator, Agricultural Marketing Service.

[FR Doc. 05-17947 Filed 9-9-05; 8:45 am]

BILLING CODE 3410-02-P